DEPARTMENT OF LABOR

Employment and Training Administration

[TA-W-74,290]

Supermedia LLC, Formerally Known as IDEARC Media LLC, Supermedia Information Services LLC, Client Care Group and Publishing Operations Group, Including On-Site Leased Workers of Advavtage (TAC), RESPRCCONN, TATACONSSV, MODIS, AMDOCS, and Database, Middleton, MA; Notice of Affirmative Determination Regarding Application for Reconsideration

By application dated September 23, 2010, the petitioner requested administrative reconsideration of the negative determination regarding workers' eligibility to apply for Trade Adjustment Assistance (TAA) applicable to workers and former workers of the subject firm. The determination was issued on September 3, 2010 and the Notice of Determination was published in the Federal Register on September 21, 2010 (75 FR 57517). The workers supply customer service in support of the subject firm's customers and internal publishing support services. Workers are separately identifiable by service supplied.

The negative determination was based on the findings there were no imports of either customer service or publishing support services by the subject firm. The investigation also revealed that the subject firm did not produce an article or supply a service that was used by a firm with TAA-certified workers in the production of an article or supply service that was basis for TAA-Certification.

The request for reconsideration was filed on behalf of a specific worker group—workers of the Ad Production-Graphics Division of SuperMedia, Middleton, Massachusetts.

The request for reconsideration alleges that because the workers of the Ad Production-Graphics Division are separately identifiable from workers in other units of the subject firm, information related to the Customer Care Department and other units are not relevant and should not be the basis for denying the Ad Production-Graphics Division workers' eligibility to apply for TAA. The request asserts that the supply of services provided by the Ad Production-Graphics Division shifted to India.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Division of Trade Adjustment Assistance.

[FR Doc. 2010-26905 Filed 10-22-10; 8:45 am]

BILLING CODE 4510-FN-P